DEPARTMENT OF THE TREASURY

Internal Revenue Service

26 CFR Part 1

[TD 8179]

Organizations Under Common Control; Eighty Percent Control Test for a Brother-Sister Controlled Group; Correcting Amendment

AGENCY: Internal Revenue Service.

ACTION: Correcting amendment.

SUMMARY: This document contains a correction to Treasury Decision 8179, which was published in the Federal Register for Wednesday, March 2, 1988. Treasury Decision 8179 issued final regulations and withdrew temporary regulations relating to organizations under common control for purposes of certain rules relating to pension, profit-sharing, and stock bonus plans. Treasury Decision 8179 was corrected on May 9, 1988; however, the corrections were not properly incorporated into the Code of Federal Regulations.

DATES:

Effective date. This correction is effective on July 11, 2019.

Applicability date: March 2, 1988.

FOR FURTHER INFORMATION CONTACT: Dara Alderman at (202) 317-5500.

SUPPLEMENTARY INFORMATION:

Background

The final regulations (TD 8179) that are the subject of this correction are under section 52 of the Internal Revenue Code. Treasury Decision 8179 was corrected at 53 FR 16408, May 9, 1988; however, the Office of the Federal Register did not properly incorporate the correction into the Code of Federal Regulations at that time.

Need for Correction

As published March 2, 1988 (53 FR 6603), the final regulations (TD 8179; FR Doc. 88-4451) contain an error that needed to be corrected. Treasury Decision 8179 was corrected at 53 FR 16408, May 9, 1988; however, the Office of the Federal Register did not properly incorporate the correction into the Code of Federal Regulations.

Applicability of Correction

Generally, the amendments to the regulations under section 52 of the Code (relating to tax credits for employees) apply to taxable years beginning after December 31, 1976. However, because the May 9, 1988 correction was not properly incorporated into the Code of Federal Regulations at the time of publication, with respect to taxable years that began prior to the Effective date, the Internal Revenue Service will not challenge the application of either published version of the regulation.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

§ 1.52-1 [Amended]

Par. 2. In § 1.52-1, paragraph (d)(1)(i) is amended by removing the language “§ 1.414(c)-4(b)(1))” and adding “§ 1.414(c)-4” in its place.

Martin V. Franks,
Chief, Publications and Regulations Branch, Legal Processing Division, Associate Chief Counsel (Procedure and Administration).

[FR Doc. 2019-14424 Filed 7-10-19; 8:45 am]

BILLING CODE 4830-01-P